SOCIAL SECURITY ADMINISTRATION

[Docket No. SSA-2025-0024]

Rescission of Social Security Rulings 83-33, 83-34, 83-35, 84-25, and 84-26

AGENCY: Social Security Administration.

ACTION: Notice of Rescission of Social Security Rulings (SSR).

SUMMARY: We are providing notice of the rescission of SSR 83-33; SSR 83-34; SSR 83-35; SSR 84-25; and SSR 84-26.

DATES: We will apply this rescission on May 28, 2025.

FOR FURTHER INFORMATION CONTACT: Jeffrey Hemmeter, Office of Disability Policy, Social Security Administration, 6401 Security Boulevard, Baltimore, MD 21235-6401, (410) 597-1815.

For information on eligibility or filing for benefits, call our national toll-free number, 1-800-772-1213 or visit our internet site, Social Security Online, at http://www.socialsecurity.gov.

SUPPLEMENTARY INFORMATION: Although 5 U.S.C. 552(a)(1) and (a)(2) do not require us to publish SSRs, we publish SSRs in accordance with 20 CFR 402.160(b)(1).

SSRs represent precedential final opinions, orders, and statements of policy and interpretations that we have adopted relating to the Federal Old Age, Survivors, and Disability Insurance program, and Supplemental Security Income (SSI) program. We may base SSRs on determinations or decisions made as part of our administrative review process, Federal court decisions, decisions of our Commissioner, opinions from our Office of the General Counsel, or other interpretations of law and regulations. Although SSRs do not have the same force and effect as law on the public, they are binding on all SSA components in accordance with 20 CFR 402.160(b)(1).

By this notice we are rescinding the following SSRs:

SSR 83-33: Titles II and XVI: Determining Whether Work Is Substantial Gainful Activity—Employees;

SSR 83-34: Titles II and XVI: Determining Whether Work Is Substantial Gainful Activity—Self-Employed Persons;

SSR 83-35: Titles II and XVI: Averaging of Earnings in Determining Whether Work Is Substantial Gainful Activity;

SSR 84-25: Titles II and XVI: Determination of Substantial Gainful Activity If Substantial Work Activity Is Discontinued or Reduced—Unsuccessful Work Attempt; and

SSR 84-26: Titles II and XVI: Deducting Impairment-Related Work Expenses From Earnings In Determinations As To Substantial Gainful Activity Under Titles II And XVI And As To Countable Earned Income Under Title XVI.

These SSRs were published in the early 1980s as policy interpretations binding on all components of the agency. We are rescinding these SSRs which address unsuccessful work attempts and substantial gainful activity (SGA) because they contain information that has since been updated, clarified, or has become obsolete by our regulations:

• SSR 83-33; SSR 83-34; SSR 83-35; and SSR 84-25 are outdated due to the final rules at 20 CFR 404.1574, 404.1574a, 404.1574(c), 404.1575, 404.1575(d), 416.974, 416.974a, 416.974(c), 416.975, and 416.975(c). These regulations remove the additional conditions that we used when we evaluate SGA and work attempts in employment or self-employment.¹

¹ 81 FR 71367 (Oct. 17, 2016) and 65 FR 42772 (July 11, 2000).

• SSR 84-26 is obsolete because it was incorporated into 20 CFR 404.1576 and 416.976 by a final rule in May 1983.² In 2000, 20 CFR 416.976 was later updated by a final rule to remove references to the Trial Work Period and Reentitlement period from SSI disability.³

² 48 FR 21931 (May 16, 1983).

³ 65 FR 42772 (July 11, 2000).

As such, these SSRs are outdated or obsolete.

We are also rescinding these SSRs as part of the agency's compliance with Executive Order 14192, Unleashing Prosperity through Deregulation, which directs agencies to rescind as appropriate sub-regulatory guidance documents.

Frank Bisignano,
Commissioner, Social Security Administration.

[FR Doc. 2025-09554 Filed 5-27-25; 8:45 am]

BILLING CODE 4191-02-P